DEPARTMENT OF COMMERCE

National Oceanic and Atmospheric Administration

[I.D. 021307C]

Vessel Monitoring Systems; Approval of Mobile Transceiver Unit

AGENCY: National Marine Fisheries Service (NMFS), National Oceanic and Atmospheric Administration (NOAA), Commerce.

ACTION: Notice.

SUMMARY: This document provides notice of the type-approval of the Faria WatchDog 750VMS in the following fisheries: The Fisheries of the Northwestern Pacific Ocean, the Fisheries of Alaska, the Fisheries of the Pacific Islands, the South Atlantic Rock Shrimp Fishery, and the Atlantic Highly Migratory Species Fishery, the Gulf of Mexico Reef Fishery, and the Northwestern Hawaiian Islands Marine National Monument.

ADDRESSES: To obtain copies of the list of NOAA-approved Vessel Monitoring Systems (VMS) Mobile Transceiver Unit and VMS Mobile Communications Service Providers, or to obtain information regarding the status of VMS systems being evaluated by NOAA, write to the VMS Support Center, NOAA Fisheries Service, Office for Law Enforcement (OLE), 8484 Georgia Avenue, Suite 415, Silver Spring, MD 20910; or call toll free 888-219-9228.

FOR FURTHER INFORMATION CONTACT: For questions regarding the status of VMS evaluations contact Jonathan Pinkerton, National VMS Program Manager by phone: 301-427-2300 or by fax: 301-427-2055.

SUPPLEMENTARY INFORMATION: The WatchDog 750VMS manufactured and sold by Faria WatchDog, Inc. has satisfied the requirements for type-approval for use in the following United States fisheries:

The Fisheries of the Northwestern Pacific Ocean, the Fisheries of Alaska, the Fisheries of the Pacific Islands, the South Atlantic Rock Shrimp Fishery, the Atlantic Highly Migratory Species Fishery, the Gulf of Mexico Reef Fish Fishery, and the Northwestern Hawaiian Islands Marine National Monument.

Faria WatchDog 750VMS

The transceiver consists of an integrated dual mode GPS/GSM/GPRS/Iridium Satellite Communicator mounted in the wheelhouse or on a console and antennas mounted atop the vessel. The unit is pre-configured and tested for NOAA Fisheries Service VMS operations. Authorized dealers who are listed at http://www.vmstracking.com provide satellite commissioning services.

Automatic GPS position reporting starts after transceiver installation and power activation onboard the vessel. The unit is a car radio sized transceiver powered by any 9 to 16 VDC power supply. The unit can be factory configured for automatic reduced position transmissions when the vessel is stationary (i.e., in port) which allows for port stays in a reduced power state and without the need for unit shut down. The unit restarts normal position transmission automatically when the vessel goes to sea.

The unit has an omni-directional Iridium, GPS, and GSM/GPRS antennas, providing operation from 5 degrees above or below the horizon anywhere on earth. The GSM/GPRS capability gives the system the additional ability to communicate through the Cingular wireless network where available.

A configuration option is available to automatically send daily status reports to a private e-mail address. A 2 inch user interface is included with this system that displays if the MTU is operating properly and can send emergency notification messages to up to four e-mail addresses and/or telephone numbers. An available option allows fishers the ability to send and receive private e-mail utilizing an optional touch screen display. A complete list of options is available from the VMS provider.

A vessel owner may purchase the Faria Watchdog 750VMS and the GSM/Iridium communications service by contacting a Faria Watchdog Inc., authorized reseller. Reseller information can be found on the internet website at www.vmstracking.com. Alternatively vessel owners may contact Mark O'Brien, VP Sales, Faria WatchDog Inc., 385 Norwich-New London Turnpike, Uncasville, CT 06382, 860-848-9271, ext. 1218 office, 860-608-5875 cell, 860-848-2704 fax, mark@faria-instruments.com e-mail. The owner should identify himself or herself as a vessel owner and identify which VMS required fishery they wish to participate in.

Dated: February 21, 2007.
William T. Hogarth,
Assistant Administrator for Fisheries, National Marine Fisheries Service.

[FR Doc. E7-3335 Filed 2-26-07; 8:45 am]

BILLING CODE 3510-22-S